DEPARTMENT OF THE INTERIOR

Bureau of Land Management

[LLCAD05000, L10200000.EE000.14X]

Notice of Intent To Amend the Caliente Resource Management Plan for the Bakersfield Field Office, and the California Desert Conservation Area Plan, California and Prepare an Associated Environmental Assessment

AGENCY: Bureau of Land Management, Interior.

ACTION: Notice of intent.

SUMMARY: In compliance with the National Environmental Policy Act of 1969, as amended (NEPA), and the Federal Land Policy and Management Act of 1976, as amended (FLPMA), the Bureau of Land Management (BLM) Ridgecrest Field Office, Ridgecrest, California, and Bakersfield Field Office, Bakersfield, California intend to prepare Resource Management Plan (RMP) amendments with an associated Environmental Assessment (EA) for the Bakersfield Field Office and the Ridgecrest Field Office and by this notice is announcing the beginning of the scoping process to solicit public comments and identify issues.

DATES: This notice initiates the public scoping process for the Plan Amendment with an associated EA. Comments on issues may be submitted in writing until November 6, 2014. The date(s) and location(s) of any scoping meetings will be announced at least 15 days in advance through local news media, newspapers and the BLM Web site at: http://www.blm.gov/ca/st/en/fo/ridgecrest.html. In order to be included in the analysis, all comments must be received prior to the close of the 30-day scoping period or 15 days after the last public meeting, whichever is later. We will provide additional opportunities for public participation as appropriate.

ADDRESSES: You may submit comments on issues and planning criteria related to Kelso Peak Plan Amendments by any of the following methods:

• Web site: http://www.blm.gov/ca/st/en/fo/ridgecrest.html.

• Email: stfitton@blm.gov.

• Fax: (760)-384-5499.

• Mail: 300 S. Richmond Rd., Ridgecrest, CA 93555.

Documents pertinent to this proposal may be examined at the Ridgecrest Field Office, Ridgecrest, California 93555.

FOR FURTHER INFORMATION CONTACT: Sam Fitton, Natural Resource Specialist, telephone: (760) 384-5432; address: 300 S. Richmond Rd., Ridgecrest, CA 93555; email: stfitton@blm.gov. Contact Mr. Fitton to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Field Office, Ridgecrest, CA, intends to prepare RMP amendments with an associated EA for the Bakersfield Field Office and the Ridgecrest Field Office. This notice announces the beginning of the scoping process, and seeks public input on issues and planning criteria. The purpose of the public scoping process is to determine relevant issues that will influence the scope of the environmental analysis, including alternatives development, and to guide the planning process. The Kelso Peak grazing allotment is located in Kern County, California and encompasses approximately 2,718 acres of public land. This allotment formerly consisted of three parcels administered by the BLM Bakersfield Field Office, of which the southern parcel is wholly within the Bright Star Wilderness area. Grazing on the allotment is subject to the 1997 Caliente Resource Management Plan. In 2006, the Bakersfield Field Office divided the allotment, retaining the northern parcel and transferring the central and southern parcels, totaling 2718 acres, to the Ridgecrest Field Office because they are physically located within the Ridgecrest Resource Area and California Desert Conservation Area.

The BLM is considering a plan amendment to determine the appropriate level of grazing, if any, on the Kelso Peak Allotment. If the BLM determines that the area should be available for grazing, it will consider issuing a grazing permit, which would include allotment-specific grazing management practices and livestock forage amounts. Through this EA, the BLM will consider a range of alternatives for the management of the Kelso Peak Allotment, including maintaining current management, changing the season of use, altering the number of Animal Unit Months (AUMs), permitting grazing with resource protection measures, or making grazing unavailable.

Preliminary issues for the Plan Amendment area have been identified by BLM personnel; Federal, State, and local agencies; and other stakeholders. The issues include: Cultural resources; livestock grazing; Native American religious concerns; socioeconomics; soils, water quality; wetlands/riparian zones; wilderness; wildlife, including threatened or endangered species; and vegetation, including invasive species.

Preliminary planning criteria include: Developing the Plan Amendment(s) in compliance with FLPMA and all other applicable laws, regulations, executive orders, and BLM supplemental program guidance; developing an EA in the planning process that will comply with NEPA standards; initiating government to government consultation, including tribal interests; incorporating by reference the Standards for Rangeland Health and Guidelines for Livestock Grazing Management into the Plan Amendment/EA; complying with Appendix C of BLM's Planning Handbook (H-1601-1) in making resource specific determinations; and assuring that the Plan Amendment(s) is compatible, to the extent possible, with existing plans and policies of adjacent local, State, Tribal, and Federal agencies.

You may submit comments to the BLM on issues and planning criteria in writing to the BLM at any public scoping meeting, or using one of the methods listed in the ADDRESSES section above. To be most helpful, you should submit comments by the close of the 30-day scoping period or within 15 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft RMP/Draft EA as to why an issue was placed in category two or three. The public is also encouraged to help identify any management questions and concerns that should be addressed in the plan. The BLM will work collaboratively with interested parties to identify the management decisions that are best suited to local, regional, and national needs and concerns.

The BLM will use an interdisciplinary approach to develop the Plan Amendment in order to consider the variety of resource issues and concerns identified. Specialists with expertise in the following disciplines will be involved in the planning process: Rangeland management, wilderness management, wildlife habitat, vegetation and invasive species, cultural resources, and outdoor recreation.

Authority: 40 CFR 1501.7 and 43 CFR 1610.2.

Dated: July 18, 2014.
Jack L. Hamby,
Acting Deputy State Director.

[FR Doc. 2014-23889 Filed 10-6-14; 8:45 am]

BILLING CODE 4310-40-P